ENVIRONMENTAL PROTECTION AGENCY

[EPA-HQ-OPPT-2006-1017; FRL-8111-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from November 13, 2006 to December 8, 2006, consists of the PMNs and TMEs, both pending or expired, and the notices of commencement to manufacture a new chemical that the Agency has received under TSCA section 5 during this time period.

DATES: Comments identified by the specific PMN number or TME number, must be received on or before February 20, 2007.

ADDRESSES

:

Submit your comments, identified by docket identification (ID) no. EPA-HQ-OPPT-2006-1017, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2006-1017. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2006-1017. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the docket's index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from November 13, 2006 to December 8, 2006, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 41 Premanufacture Notices Received From: 11/13/06 to 12/08/06
Case No. | Received Date | Projected Notice End Date | Manufacturer/Importer | Use | Chemical
P-07-0087 | 11/13/06 | 02/10/07 | CBI | (G) Open, non-dispersive treatment | (G) Partially fluorinated condensation polymer
P-07-0088 | 11/13/06 | 02/10/07 | CBI | (S) Rubber elastomer | (G) Tdi/ppg ether prepolymer
P-07-0089 | 11/14/06 | 02/11/07 | CBI | (S) A component in ultraviolet light/electron beam curable formulations | (G) Aliphatic acid, polymer with 2-ethyl-2-(hydroxymethyl)-1,3-propanediol and 2-methyl-1,3-propanediol, 2-propenoate
P-07-0090 | 11/15/06 | 02/12/07 | CBI | (S) Aliphatic urethane acrylate oligomer used in ink and coating manufacturing. | (G) Aliphatic urethane acrylate oligomer
P-07-0091 | 11/15/06 | 02/12/07 | Ge water and process technologies | (S) Scale control agent for water treatment | (G) Acrylate copolymer
P-07-0092 | 11/16/06 | 02/13/07 | Reichhold Inc. | (S) Styrene replacement in polyester resin blends | (G) Alkanediols, polymer with dicarboxylic acid, reacted with unsaturated carboxylic acid
P-07-0093 | 11/16/06 | 02/13/07 | Cytec Industries Inc. | (G) Antioxidant for fibers and plastics | (G) Phenolic antioxidant
P-07-0094 | 11/16/06 | 02/13/07 | Xerox Corporation | (G) Destructive use (site limited intermediate) | (G) Anthranilate
P-07-0095 | 11/16/06 | 02/13/07 | Xerox Corporation | (G) Open, non-dispersive use as a constituent in solid, crayon like inks for computer printers | (G) Substituted pyridone
P-07-0096 | 11/17/06 | 02/14/07 | CBI | (G) Component of foam | (G) Fatty acid polymer with aliphatic diol and aromatic diacid
P-07-0097 | 11/17/06 | 02/14/07 | Eastman Kodak Company | (S) Export | (S) 2-propenoic acid, 2-methyl-, butyl ester, polymer with ethenylbenzene and 2-sulfoethyl 2-methyl-2-propenoate, ammonium salt
P-07-0098 | 11/17/06 | 02/14/07 | CBI | (G) Component of foam | (G) Fatty acid polymer with aliphatic diol and aromatic diacid
P-07-0099 | 11/20/06 | 02/17/07 | Cytec Surface Specialties Inc. | (G) Intermediate polymer for coatings | (G) Substituted carbopolycycle, polymer with substituted alkane and trialkylene glycol, substituted epoxy alkyl ester
P-07-0100 | 11/20/06 | 02/17/07 | CIBA Specialty Chemicals Corporation | (S) Pigment for printing ink used in time-temperature indicator labeling | (G) 1′-[(4-fluorophenyl)methyl]-1′,3′-dihydro-8-methoxy-3′,3′-dimethyl-6-nitro aromatic substituted indole
P-07-0101 | 11/20/06 | 02/17/07 | CBI | (S) Component for biodiesel additive | (G) Alkoxylate polymer
P-07-0102 | 11/21/06 | 02/18/07 | Huntsman International, LLC | (S) Exhaust dyeing of cotton fabric; pad batch dyeing of cotton fabric | (G) Substituted phenyl amino substituted triazine reaction product with naphthalenesulfonic acid azo naphthalenesulfonic acid amino substituted triazine amino alkyl compound
P-07-0103 | 11/20/06 | 02/17/07 | CBI | (S) Fluorescent brightener for use in cellulosic paper applications | (G) Substituted benzene sulfonic acid, salt reaction product with phenylamine and amino alcohol and substituted propaneamide compounds with amino alcohol
P-07-0104 | 11/20/06 | 02/17/07 | CPH Services | (S) Plasticizer for bio-resin polymers | (G) Mixed esters of diacids with alcohols and acid-alcohols
P-07-0105 | 11/20/06 | 02/17/07 | CPH Services | (S) Plasticizer for bio-resin polymers | (G) Mixed esters of diacids with alcohols and acid-alcohols
P-07-0106 | 11/20/06 | 02/17/07 | CPH Services | (S) Plasticizer for bio-resin polymers | (G) Mixed esters of diacids with alcohols and acid-alcohols
P-07-0107 | 11/27/06 | 02/24/07 | CBI | (G) Polymer additive | (G) Biphenyl substituted benzopyran
P-07-0108 | 11/22/06 | 02/19/07 | CBI | (G) Colorant raw material | (G) 1,1-diacidsubstituted -4-aminobutanol, monosodium salt
P-07-0109 | 11/22/06 | 02/19/07 | Marshallton Research Laboratories, Inc. | (G) Chemical intermediate - destructive use | (G) Iodoalkyl substituted catechol
P-07-0110 | 11/22/06 | 02/19/07 | Marshallton Research Laboratories, Inc. | (G) Chemical intermediate - destructive use | (G) Calixarene
P-07-0111 | 11/22/06 | 02/19/07 | Marshallton Research Laboratories, Inc. | (G) Extractant for ions | (G) Alkylcatechol-substituted calixarene
P-07-0112 | 11/27/06 | 02/24/07 | Marshallton Research Laboratories Inc. | (G) Chemical intermediate - destructive use | (G) Substituted catechol
P-07-0113 | 11/27/06 | 02/24/07 | Marshallton Research Laboratories Inc. | (G) Chemical intermediate - destructive use | (G) Chloroalkyl substituted catechol
P-07-0114 | 11/27/06 | 02/24/07 | Marshallton Research Laboratories Inc. | (G) Solvent additive - solublizing agent | (G) Arylated glycerol
P-07-0115 | 11/22/06 | 02/19/07 | CBI | (S) Hydraulic fluid component | (G) Branched alcohol alkoxylate
P-07-0116 | 11/27/06 | 02/24/07 | Marshallton Research Laboratories Inc. | (G) Chemical intermediate - destructive use | (G) Alkyl glycidyl ether
P-07-0117 | 12/04/06 | 03/03/07 | Cytec Surface Specialties Inc. | (G) Coatings resin | (G) Acrylated aliphatic polyurethane
P-07-0118 | 12/04/06 | 03/03/07 | Henkel Corporation | (S) Component in solder paste formulations | (S) 1,3,5-triazine-2,4,6(1h,3h,5h)-trione, 1,3,5-tris(2,3-dibromopropyl)-
P-07-0119 | 12/04/06 | 03/03/07 | Boulder Scientific Company | (S) Chemical intermediate | (S) Magnesium, bromocyclopropyl-*
P-07-0120 | 12/05/06 | 03/04/07 | 3M Company | (G) Chemical intermediate | (G) Diethylene glycol ether phthalate
P-07-0121 | 12/05/06 | 03/04/07 | CBI | (G) Non-dispersive use | (G) Epoxy-amine adduct salt
P-07-0122 | 12/06/06 | 03/05/07 | CBI | (G) Plastic film additive | (G) Glycerol fatty acid ester
P-07-0123 | 12/08/06 | 03/07/07 | Hi-tech Color Inc. | (S) Binder for printing ink | (S) 2-oxepanone, homopolymer, ester with 1,2-ethanediol (2:1), polymer with 5-amino-1,3,3-trimethylcyclohexanemethanamine, .alpha.-hydro-.omega.-hydroxypoly(oxy-1,4-butanediyl) and 5-isocyanato-1-(isocyanatomethyl)-1,3,3-trimethylcyclohexane, N-butyl-1-butanamine-blocked
P-07-0124 | 12/08/06 | 03/07/07 | Hi-tech Color Inc. | (S) Vehicle of paints on pvc sheet for car interior construction; vehicle of paints on tpo sheet for car interior construction | (S) Siloxanes and silicones, di-me, 3-(2-hydroxyethoxy)propyl group-terminated, polymers with 5-amino-1,3,3-trimethylcyclohexanemethanamine, di-et carbonate, 1,6-hexanediol and 1,1′-methylenebis[4-isocyanatocyclohexane], me et ketone oxime-blocked
P-07-0125 | 12/06/06 | 03/05/07 | Werner G. Smith, Inc. | (S) Metal working lubricant | (S) 1,2,3-propanetricarboxylic acid, 2-hydroxy-, mixed 4-methyl-2-propylhexyl and 5-methyl-2-propylhexyl and 2-propylheptyl triesters*
P-07-0126 | 12/07/06 | 03/06/07 | Clayton Corp. | (S) Polyurethane foam sealant | (G) Mdi based prepolymer
P-07-0127 | 12/08/06 | 03/07/07 | CBI | (G) Adhesives | (G) Acrylic copolymer

In Table II of this unit, EPA provides the following information (to the extent that such information is not claimed as CBI) on the TMEs received:

II. 4 Test Marketing Exemption Notices Received From: 11/13/06 to 12/08/06
Case No. | Received Date | Projected Notice End Date | Manufacturer/Importer | Use | Chemical
T-07-0002 | 11/16/06 | 12/30/06 | Forbo Adhesives, LLC | (G) Holt melt adhesive | (G) Isocyanate functional polyester urethane polymer
T-07-0003 | 11/20/06 | 01/03/07 | Cytec Surface Specialties Inc. | (G) Intermediate polymer for coatings | (G) Substituted carbopolycycle, polymer with substituted alkane and trialkylene glycol, substituted epoxy alkyl ester
T-07-0004 | 11/16/06 | 12/30/06 | Cytec Industries Inc. | (G) Antioxidant for fibers and plastics | (G) Phenolic antioxidant
T-07-0005 | 12/04/06 | 01/17/07 | Cytec Surface Specialties Inc. | (G) Coatings resin | (G) Acrylated aliphatic polyurethane

In Table III of this unit, EPA provides the following information (to the extent that such information is not claimed as CBI) on the Notices of Commencement to manufacture received:

III. 34 Notices of Commencement From: 11/13/06 to 12/08/00
Case No. | Received Date | Commencement Notice End Date | Chemical
P-00-0789 | 11/29/06 | 03/09/06 | (S) 1,4-benzedicarboxylic acid, dimethy ester, polymer with 1,4-butanediol, cyclized
P-03-0659 | 11/13/06 | 10/16/06 | (S) Poly(oxy-1,2-ethanediyl), .alpha.-hydro-.omega.-hydroxy-, mono C8-10-alkyl ethers, ethers with 1,2-dodecanediol (1:1)
P-03-0845 | 11/22/06 | 11/03/06 | (S) 7-tetradecen-2-one, (7z)-
P-03-0846 | 11/24/06 | 11/08/06 | (G) Mono-halo-substituted alkyne
P-03-0848 | 11/24/06 | 11/08/06 | (G) Mono-halo-substituted alkyne
P-04-0899 | 11/14/06 | 03/03/05 | (S) Sunflower oil, ester with pentaerythritol
P-04-0909 | 11/29/06 | 11/10/06 | (G) 1-(2vinyloxyethoxy) ethyl acrylate
P-05-0434 | 11/21/06 | 09/09/06 | (G) Carboxyalkenyl, telomer with mercaptoalkylol and sulfoalkyl-aminocarbonylalkenyl, ammonium salt
P-05-0435 | 11/21/06 | 09/09/06 | (G) Alkylaminium, salt with mercaptoalkylol, telmoer with sulfoalkyl-aminocarbonylalkenyl and carboxyalkenyl
P-05-0443 | 11/28/06 | 11/16/06 | (G) 2-propenoic acid, 2-methyl-, c12-15-branched and linear alkyl esters, polymers with alkenylamide and 2-ethylhexyl methacrylate
P-05-0517 | 11/28/06 | 11/20/06 | (G) Alkyl methacrylate esters telomers with alkylmethacrylamide, 1-dodecanethiol, tert-bu 2-ethylhexaneperoxoate-initiated
P-05-0776 | 11/20/06 | 10/27/06 | (G) (ethanone, 1-halocycloalkyl-)
P-05-0793 | 11/15/06 | 05/19/06 | (G) Amino polyether prepolymer ester
P-06-0151 | 11/28/06 | 10/31/06 | (G) Quadruplicate copolymer from 1,3-butadiene and ethenylbenzene and trimethylolpropane trimethacrylate and 2-propenoic acid, 2-methyl; 2-hydroxyethyl ester
P-06-0163 | 11/22/06 | 10/17/06 | (S) Extractives and their physically modified derivatives. zingiber purpureum, zingiberaceae. Oil, ginger, zingiber purpureum
P-06-0344 | 11/17/06 | 10/23/06 | (G) Mixed metal oxide complex
P-06-0369 | 11/16/06 | 11/01/06 | (G) Mixed metal oxide complex
P-06-0375 | 11/15/06 | 09/21/06 | (G) Bis diamide
P-06-0446 | 12/04/06 | 11/28/06 | (G) Amine functional acrylic-styrene polymer
P-06-0449 | 11/20/06 | 11/13/06 | (S) Hexanedioic acid, mixed esters with 4-methyl-2-propyl-1-hexanol, pentaerythritol and 2-propyl-1-heptanol
P-06-0514 | 12/07/06 | 11/10/06 | (G) Al, mixed metal and alcohol complex
P-06-0611 | 11/13/06 | 11/07/06 | (G) Substituted carbohydrate
P-06-0614 | 11/20/06 | 11/13/06 | (G) Substituted benzylidene sorbitol
P-06-0625 | 12/07/06 | 11/20/06 | (G) Isocyanate-terminated alkyl alkoxy silane
P-06-0627 | 11/24/06 | 10/31/06 | (G) Styrene acryl polymer
P-06-0636 | 11/27/06 | 11/21/06 | (G) Polymer of unsaturated fatty acids with phenylalkylene polyamine, epoxy resin and polyether polyamine
P-06-0648 | 11/16/06 | 11/13/06 | (G) Sulfonated azo-naphthalene derivative, salt
P-06-0661 | 12/07/06 | 11/28/06 | (G) Naphthalenesulfonic acid salt, polymer with resorcinol, formaldehyde and phenol
P-06-0674 | 11/20/06 | 10/31/06 | (G) Alkene acrylate copolymer
P-06-0691 | 11/27/06 | 11/01/06 | (G) Derivatized triglycerides
P-06-0721 | 12/05/06 | 11/21/06 | (G) Benzaldehyde, polymer with substituted biphenyl and phenol
P-06-0733 | 12/05/06 | 11/16/06 | (G) Amines branched and linear alkyl
P-06-0740 | 12/04/06 | 11/20/06 | (G) Polyglycol
P-95-1697 | 11/27/06 | 11/15/06 | (G) Isocyanate-terminated polycarbonate polyurethane prepolymer

List of Subjects

Environmental protection, Chemicals, Premanufacturer notices.

Dated: January 9, 2007.
Geraldine Hilton,
Acting Director, Information Management Division, Office of Pollution Prevention and Toxics.

[FR Doc. E7-637 Filed 1-18-07; 8:45 am]

BILLING CODE 6560-50-S